DEPARTMENT OF TRANSPORTATION

Federal Aviation Administration

14 CFR Part 97

[Docket No. 31170; Amdt. No. 3779]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 26, 2017. The compliance date for each SIAP, associated Takeoff Minimums, and ODP is specified in the amendatory provisions.

The incorporation by reference of certain publications listed in the regulations is approved by the Director of the Federal Register as of December 26, 2017.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on December 15, 2017.
John S. Duncan,
Director, Flight Standards Service.

Adoption of the Amendment

Accordingly, pursuant to the authority delegated to me,

Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 1 February 2018

Buckland, AK, Buckland, Takeoff Minimums and Obstacle DP, Amdt 2

Sitka, AK, Sitka Rocky Gutierrez, BIORKA FOUR, Graphic DP

Atmore, AL, Atmore Muni, RNAV (GPS) RWY 18, Amdt 2

Atmore, AL, Atmore Muni, RNAV (GPS) RWY 36, Amdt 2

Atmore, AL, Atmore Muni, Takeoff Minimums and Obstacle DP, Amdt 2

Helena/West Helena, AR, Thompson-Robbins, Takeoff Minimums and Obstacle DP, Amdt 1

San Martin, CA, San Martin, RNAV (GPS) RWY 32, Orig-C

Santa Monica, CA, Santa Monica Muni, TOPANGA TWO, Graphic DP

Stockton, CA, Stockton Metropolitan, RNAV (GPS) RWY 11L, Amdt 1A

Stockton, CA, Stockton Metropolitan, RNAV (GPS) RWY 29R, Amdt 1A

Vacaville, CA, Nut Tree, RNAV (GPS) RWY 20, Amdt 1A

Burlington, CO, Kit Carson County, LOC RWY 33, Amdt 1

Burlington, CO, Kit Carson County, NDB RWY 15, Amdt 2

Burlington, CO, Kit Carson County, RNAV (GPS) RWY 15, Amdt 1

Burlington, CO, Kit Carson County, Takeoff Minimums and Obstacle DP, Orig-A

Colorado Springs, CO, City of Colorado Springs Muni, ILS OR LOC RWY 35L, ILS RWY 35L (SA CAT II), Amdt 39

Rifle, CO, Rifle Garfield County, SQUAT FOUR, Graphic DP

Rifle, CO, Rifle Garfield County, Takeoff Minimums and Obstacle DP, Amdt 11

West Palm Beach, FL, North Palm Beach County General Aviation, ILS OR LOC RWY 9R, Amdt 2

West Palm Beach, FL, North Palm Beach County General Aviation, RNAV (GPS) RWY 9R, Amdt 2

West Palm Beach, FL, North Palm Beach County General Aviation, RNAV (GPS) RWY 14, Amdt 1

West Palm Beach, FL, North Palm Beach County General Aviation, RNAV (GPS) RWY 27L, Amdt 2

West Palm Beach, FL, North Palm Beach County General Aviation, Takeoff Minimums and Obstacle DP, Amdt 1

West Palm Beach, FL, North Palm Beach County General Aviation, VOR RWY 8R, Amdt 1D, CANCELED

Des Moines, IA, Des Moines Intl, ILS OR LOC RWY 5, Amdt 1

Des Moines, IA, Des Moines Intl, ILS OR LOC RWY 13, Amdt 10

Des Moines, IA, Des Moines Intl, ILS OR LOC RWY 31, ILS RWY 31 (SA CAT I), ILS RWY 31 (CAT II), ILS RWY 31 (CAT III), Amdt 24

Des Moines, IA, Des Moines Intl, RNAV (GPS) RWY 5, Amdt 2

Des Moines, IA, Des Moines Intl, RNAV (GPS) RWY 13, Amdt 2

Des Moines, IA, Des Moines Intl, RNAV (GPS) RWY 23, Amdt 1

Des Moines, IA, Des Moines Intl, RNAV (GPS) RWY 31, Amdt 2

Des Moines, IA, Des Moines Intl, Takeoff Minimums and Obstacle DP, Amdt 11A

Topeka, KS, Topeka Rgnl, ILS OR LOC RWY 31, Amdt 10

Topeka, KS, Topeka Rgnl, NDB RWY 13, Amdt 7C, CANCELED

Wichita, KS, Colonel James Jabara, ILS OR LOC RWY 18, Orig-B

Jackson, MI, Jackson County-Reynolds Field, Takeoff Minimums and Obstacle DP, Amdt 6

South St Paul, MN, South St Paul Muni-Richard E Fleming Fld, RNAV (GPS) RWY 34, Amdt 2

Billings, MT, Billings Logan Intl, ILS OR LOC RWY 28R, Amdt 3

Billings, MT, Billings Logan Intl, ILS Y OR LOC Y RWY 10L, Amdt 26

Billings, MT, Billings Logan Intl, NDB RWY 10L, Amdt 19A, CANCELED

Billings, MT, Billings Logan Intl, RNAV (GPS) RWY 7, Amdt 2

Billings, MT, Billings Logan Intl, RNAV (GPS) RWY 10L, Amdt 4

Billings, MT, Billings Logan Intl, RNAV (GPS) RWY 25, Amdt 2

Billings, MT, Billings Logan Intl, RNAV (GPS) Y RWY 28R, Amdt 4

Billings, MT, Billings Logan Intl, RNAV (RNP) Z RWY 28R, Amdt 1

Billings, MT, Billings Logan Intl, Takeoff Minimums and Obstacle DP, Amdt 7A

Twin Bridges, MT, Twin Bridges, BRIDGES ONE, Graphic DP

Twin Bridges, MT, Twin Bridges, DILLON ONE, Graphic DP

Twin Bridges, MT, Twin Bridges, RNAV (GPS) RWY 17, Orig

Twin Bridges, MT, Twin Bridges, RNAV (GPS) RWY 35, Orig

Twin Bridges, MT, Twin Bridges, Takeoff Minimums and Obstacle DP, Orig

Bismarck, ND, Bismarck Muni, ILS OR LOC RWY 31, Amdt 34

Columbus, OH, John Glenn Columbus Intl, RNAV (GPS) Y RWY 28L, Amdt 3D

Columbus, OH, John Glenn Columbus Intl, RNAV (RNP) Z RWY 28L, Amdt 1C

Eugene, OR, Mahlon Sweet Field, RNAV (GPS) Y RWY 16R, Amdt 2A

Eugene, OR, Mahlon Sweet Field, RNAV (GPS) Y RWY 34R, Amdt 3A

Eugene, OR, Mahlon Sweet Field, RNAV (RNP) Z RWY 16R, Amdt 1A

The Dalles, OR, Columbia Gorge Rgnl/The Dalles Muni, RNAV (GPS)-A, Amdt 1A

Philadelphia, PA, Philadelphia Intl, ILS OR LOC RWY 9L, Amdt 4D

Philadelphia, PA, Philadelphia Intl, ILS OR LOC RWY 26, Amdt 4C

Philadelphia, PA, Philadelphia Intl, ILS OR LOC RWY 27L, Amdt 14A

Philadelphia, PA, Philadelphia Intl, ILS OR LOC RWY 27R, ILS RWY 27R (SA CAT I), ILS RWY 27R (SA CAT II), Amdt 10G

Philadelphia, PA, Philadelphia Intl, ILS V RWY 17, Amdt 6C (CONVERGING)

Philadelphia, PA, Philadelphia Intl, ILS Z OR LOC RWY 17, Amdt 8B

Philadelphia, PA, Philadelphia Intl, ILS Z OR LOC Z RWY 9R, ILS Z RWY 9R (SA CAT I), ILS Z RWY 9R (CAT II), ILS Z RWY 9R (CAT III), Amdt 10A

Philadelphia, PA, Philadelphia Intl, RNAV (GPS) RWY 17, Amdt 3B

Philadelphia, PA, Philadelphia Intl, RNAV (GPS) RWY 26, Amdt 1C

Philadelphia, PA, Philadelphia Intl, RNAV (GPS) RWY 27L, Amdt 3A

Philadelphia, PA, Philadelphia Intl, RNAV (GPS) RWY 27R, Amdt 1C

Philadelphia, PA, Philadelphia Intl, RNAV (GPS) RWY 35, Amdt 4A

Philadelphia, PA, Philadelphia Intl, RNAV (GPS) Y RWY 9L, Amdt 1B

Philadelphia, PA, Philadelphia Intl, RNAV (GPS) Y RWY 9R, Amdt 3A

Philadelphia, PA, Philadelphia Intl, RNAV (RNP) Z RWY 9L, Orig-D

Philadelphia, PA, Philadelphia Intl, RNAV (RNP) Z RWY 9R, Orig-D

Pittsburgh, PA, Allegheny County, ILS OR LOC RWY 10, Amdt 7

Sumter, SC, Sumter, ILS OR LOC RWY 23, Amdt 1

Sumter, SC, Sumter, RNAV (GPS) RWY 23, Amdt 1

Sumter, SC, Sumter, RNAV (GPS) Z RWY 23, Amdt 1, CANCELED

College Station, TX, Easterwood Field, ILS OR LOC RWY 34, Amdt 14

College Station, TX, Easterwood Field, LOC BC RWY 16, Amdt 8

College Station, TX, Easterwood Field, RNAV (GPS) RWY 10, Amdt 1C

College Station, TX, Easterwood Field, RNAV (GPS) RWY 16, Amdt 1B

College Station, TX, Easterwood Field, RNAV (GPS) RWY 28, Amdt 1A

College Station, TX, Easterwood Field, RNAV (GPS) RWY 34, Amdt 1B

College Station, TX, Easterwood Field, Takeoff Minimums and Obstacle DP, Amdt 4

College Station, TX, Easterwood Field, VOR RWY 28, Amdt 14

College Station, TX, Easterwood Field, VOR OR TACAN RWY 10, Amdt 19D

Laredo, TX, Laredo Intl, ILS OR LOC RWY 18R, Amdt 12

Laredo, TX, Laredo Intl, LOC BC RWY 36L, Amdt 3

Laredo, TX, Laredo Intl, RNAV (GPS) RWY 14, Amdt 1

Laredo, TX, Laredo Intl, RNAV (GPS) RWY 18L, Amdt 1

Laredo, TX, Laredo Intl, RNAV (GPS) RWY 18R, Amdt 2

Laredo, TX, Laredo Intl, RNAV (GPS) RWY 32, Amdt 2

Laredo, TX, Laredo Intl, RNAV (GPS) RWY 36L, Amdt 3

Provo, UT, Provo Muni, ILS OR LOC RWY 13, Amdt 4

Rock Springs, WY, Rock Springs-Sweetwater County, RNAV (GPS) RWY 9, Orig-A

Rock Springs, WY, Rock Springs-Sweetwater County, RNAV (GPS) RWY 27, Amdt 1B

RESCINDED: On December 4, 2017 (82 FR 57115), the FAA published an Amendment in Docket No. 31166, Amdt No. 3775, to Part 97 of the Federal Aviation Regulations under section 97.23, 97.29, and 97.33. The following entries for Price, UT, effective February 1, 2018, are hereby rescinded in their entirety:

Price, UT, Carbon County Rgnl/Buck Davis Field, ILS OR LOC RWY 1, Amdt 1B

Price, UT, Carbon County Rgnl/Buck Davis Field, RNAV (GPS) RWY 1, Amdt 2B

Price, UT, Carbon County Rgnl/Buck Davis Field, VOR RWY 1, Amdt 1B

[FR Doc. 2017-27679 Filed 12-22-17; 8:45 am]

BILLING CODE 4910-13-P